ENVIRONMENTAL PROTECTION AGENCY

40 CFR Part 52

[EPA-R03-OAR-2010-0882; FRL-9281-4]

Approval and Promulgation of Air Quality Implementation Plans; Virginia; Adoption of the Revised Lead Standards and Related Reference Conditions and Update of Appendices; Withdrawal of Direct Final Rule

AGENCY: Environmental Protection Agency (EPA).

ACTION: Withdrawal of direct final rule.

SUMMARY: Due to an adverse comment, EPA is withdrawing the direct final rule to approve revisions to Virginia's State Implementation Plan (SIP). These SIP revisions add the primary and secondary lead standards of 0.15 micrograms per cubic meter (μg/m3), related reference conditions, and update the list of appendices under “Documents Incorporated by Reference.” In the direct final rule published on January 26, 2011 (76 FR 4537), we stated that if we received any adverse comments by February 25, 2011, the rule would be withdrawn and would not take effect. EPA received an adverse comment within the comment period. EPA will address the comment received in a subsequent final action based upon the proposed action also published on January 26, 2011 (76 FR 4579). EPA will not institute a second comment period on this action.

DATES: The direct final rule published at 76 FR 4537, January 26, 2011, is withdrawn as of March 18, 2010.

ADDRESSES: EPA has established docket number EPA-R03-OAR-2010-0882 for this action. The index to the docket is available electronically at http://www.regulations.gov and in hard copy at Air Protection Division, U.S. Environmental Protection Agency, Region III, 1650 Arch Street, Philadelphia, Pennsylvania 19103.

FOR FURTHER INFORMATION CONTACT: Irene Shandruk, (215) 814-2166, or by e-mail at shandruk.irene@epa.gov.

List of Subjects in 40 CFR Part 52

Environmental protection, Air pollution control, Incorporation by reference, Ozone, Reporting and recordkeeping requirements, Volatile organic compounds.

Dated: March 8, 2011.
Shawn M. Garvin,
Regional Administrator, Region III.

Accordingly, the amendments to the table in 40 CFR 52.2420, published on January 26, 2011 (76 FR 4537) on page 4539 is withdrawn as of March 18, 2011.

[FR Doc. 2011-6227 Filed 3-17-11; 8:45 am]

BILLING CODE 6560-50-P